DEPARTMENT OF LABOR

Office of the Secretary

Agency Information Collection Activities; Submission for OMB Review; Comment Request; Demonstration and Evaluation of the Short-Time Compensation (STC) Program (STC) Grants Program

AGENCY: Office of the Assistant Secretary for Policy, Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed. A copy of the proposed Information Collection Request can be obtained by contacting the office listed below in the addressee section of this notice.

DATES: Written comments must be submitted to the office listed in the addressee section below on or before May 22, 2015.

ADDRESSES: You may submit comments by either one of the following methods: Email: ChiefEvaluationOffice@dol.gov; Mail or Courier: Christina Yancey, Chief Evaluation Office, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Christina Yancey by email at ChiefEvaluationOffice@dol.gov.

SUPPLEMENTARY INFORMATION:

I. Background

The Middle Class Tax Relief and Job Creation Act of 2012 was signed into law on February 22, 2012. Subtitle D of Title II of the Act contains several provisions concerning the STC program, including Section 2166 requiring the Secretary of Labor to submit a final report to Congress on the implementation of the provisions of Subtitle D no later than four years after the date of enactment.

The STC program is an option within the Unemployment Insurance (UI) system that allows employers to reduce the hours of workers, while permitting workers to receive partial UI benefits for the non-worked hours. The objective of STC is to avoid layoffs during periods of reduced labor demand and thereby allow businesses to maintain their operations, retain valued employees, and prevent company morale from deteriorating. The program was first initiated California in 1978 and a temporary national STC program was adopted in 1982 under the Tax Equity and Fiscal Responsibility Act (TEFRA, P.L. 97-248). The STC program became permanent in Federal law in 1992, when states were permitted to adopt their own STC programs as part of State UI laws. Under Section 303(a)(5) of the Social Security Act and Section 3304(a)(4) of the Federal Unemployment Tax Act, the Unemployment Trust Fund can pay for STC. Each state has an account within the Fund from which its pays UI benefits.

The Employment and Training Administration's Office of Unemployment Insurance has oversight responsibility for the STC program. The Chief Evaluation Office of the Department of Labor (DOL) is conducting a rigorous demonstration and impact evaluation of the STC programs in two states, Iowa and Oregon, to better understand the reasons for low take-up of STC and to evaluate the effectiveness of strategies to increase employer use. DOL is requesting clearance for two aspects of information collection: (1) To conduct in-depth interviews with state agency officials and employers, and (2) to survey employers on STC program awareness and participation. These data collections are essential elements of the implementation study and the rigorous impact evaluation of the demonstration of the STC program.

II. Desired Focus of Comments

Currently, the Department of Labor is soliciting comments concerning the above data collection for the demonstration and evaluation of the short-term compensation program. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions

At this time, the Department of Labor is requesting clearance for data collection for the demonstration and evaluation of the short-term compensation program via collection of post-implementation data elements and fieldwork efforts.

Type of review: New information collection request.

OMB Control Number: 1205-0NEW.

Affected Public: Private Sector Employers eligible for enrollment within the Short-Time Compensation Program; and Public Sector State Agency Personnel engaged in the Short-Time Compensation Program.

Estimated Burden Hours
Form/activity | Estimated total respondents | Frequency | Total responses | Average time per response (hours) | Estimated total burden hours
State Agency Personnel interviews | 30 | Once | 30 | .67 | 20
Employer interviews | 28 | Once | 28 | .83 | 23.3
Employer Short-form survey | 2,000 | Once | 2,000 | .034 | 67.7
Employer Long-form survey | 800 | Once | 800 | .2 | 160
Totals | 2,858 |  | 2,858 |  | 271

Comments submitted in response to this request will be summarized and/or included in the request for Office of Management and Budget approval; they will also become a matter of public record.

Mary Beth Maxwell,
Principal Deputy Assistant Secretary for Policy, U.S. Department of Labor.

[FR Doc. 2015-06494 Filed 3-20-15; 8:45 am]

BILLING CODE 4510-23-P